NUCLEAR REGULATORY COMMISSION

[NRC-2020-0104]

Information Collection: NRC Online Form, “Nuclear Materials Relief Requests”

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, NRC Online Form, “Nuclear Materials Relief Requests.”

DATES: Submit comments by October 19, 2020. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2020-0104 when contacting the NRC about the availability of information for this action. You may obtain publicly-available information related to this action by any of the following methods:

• Federal Rulemaking website: Go to https://www.regulations.gov and search for Docket ID NRC-2020-0104. A copy of the collection of information and related instructions may be obtained without charge by accessing Docket ID NRC-2020-0104 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. A copy of the collection of information and related instructions may be obtained without charge by accessing ADAMS Accession No. ML20252A133. The supporting statement is available in ADAMS under Accession No. ML20213C548.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, NRC Online Form, “Nuclear Materials Relief Requests.” The NRC hereby informs potential respondents that an agency may not conduct or sponsor, and that a person is not required to respond to, a collection of information unless it displays a currently valid OMB control number.

The NRC published a Federal Register notice with a 60-day comment period on this information collection on May 5, 2020, 85 FR 26718.

1. The title of the information collection: NRC Online Form, “Nuclear Materials Relief Requests”

2. OMB approval number: 3150-0243.

3. Type of submission: Extension.

4. The form number if applicable: Not applicable.

5. How often the collection is required or requested: On Occasion.

6. Who will be required or asked to respond: This information collection applies to holders of nuclear materials licenses (including byproduct material, uranium recovery, decommissioning (both materials and reactors), fuel facilities, and spent fuel storage licenses) who may need to seek regulatory relief during the Coronavirus Disease 2019 (COVID-19) Public Health Emergency (PHE).

7. The estimated number of annual responses: 260.

8. The estimated number of annual respondents: 260.

9. An estimate of the total number of hours needed annually to comply with the information collection requirement or request: 520.

10. Abstract: The NRC requested an emergency review of this information collection in order to obtain the approval of this information collection for a period of 6 months. The purpose of this information collection is to request an extension of the approval of the online form for COVID-19 related Nuclear Materials Relief Requests. The form simplifies the filing the relief requests described in the following paragraphs because the existing system may be too burdensome for licensees under current conditions.

The NRC requires licensed facilities to comply with requirements in title 10 of the Code of Federal Regulations (CFR) as they relate to the safe and secure use of nuclear materials; medical, industrial, and academic applications; uranium recovery activities, low-level radioactive waste sites; and the decommissioning of previously operating nuclear facilities and power plants. These requirements can be found in 10 CFR parts 20, 30, 31, 32, 33, 34, 35, 36, 37, 39, 40, 50, 70, 71, 72, 74, 75, and 150. The ability of licensed facilities to comply with these requirements may be negatively impacted by the COVID-19 PHE due to resulting staffing challenges, the need to protect staff during the PHE, the availability of contracted support services, and other unforeseen challenges to operations. Currently, licensees may request, and the NRC will approve exemptions from the above requirements when they are authorized by law, will not present an undue risk to the public health and safety, and are consistent with the common defense and security. To facilitate and streamline licensees' requests for exemptions to these requirements, the NRC is providing an online form to submit the required information for a specific exemption request. This online form supplements the existing reporting mechanisms for requests for exemption.

Dated: September 15, 2020.
For the Nuclear Regulatory Commission.
Kristen E. Benney,
Acting NRC Clearance Officer, Office of the Chief Information Officer.

[FR Doc. 2020-20651 Filed 9-17-20; 8:45 am]

BILLING CODE 7590-01-P